DEPARTMENT OF JUSTICE

[OMB Number 1121-0259]

Agency Information Collection Activities; Proposed eCollection eComments Requested; Extension of a Previously Approved Collection; Claims Public Safety Officer Medal of Valor Application

AGENCY: Office of Justice Programs, Department of Justice.

ACTION: 60-Day notice.

SUMMARY: The Office of Justice Programs, Department of Justice (DOJ), will be submitting the following information collection request to the Office of Management and Budget (OMB) for review and approval in accordance with the Paperwork Reduction Act of 1995.

DATES: Comments are encouraged and will be accepted for 60 days until March 24, 2026.

FOR FURTHER INFORMATION CONTACT: If you have additional comments, especially on the estimated public burden or associated response time, suggestions, or need a copy of the proposed information collection instrument with instructions or additional information, please contact Michelle Martin, U.S. Department of Justice, 999 N Capitol St. NE, Washington, DC 20044-0146, at (202) 598-9288 or michelle.a.martin@usdoj.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Information collection form for individuals applying for compensation under the Radiation Exposure Compensation Act.

Overview of This Information Collection

1. Type of Information Collection: Extension of a previously approved collection.

2. The Title of the Form/Collection: Public Safety Officer Medal of Valor Application.

3. The agency form number, if any, and the applicable component of the Department sponsoring the collection: OMB #1121-0259 DOJ Component: Office of Justice Programs.

4. Affected public who will be asked or required to respond, as well as a brief abstract: The information that is being collected is solicited from federal, state, local and tribal public safety agencies, who wish to nominate their personnel to receive the Public Safety Officer Medal of Valor (MOV). This information is provided on a voluntary basis, includes agency and nominee information along with details about the events for which the nominees are to be considered when determining who will be recommended to receive the MOV.

5. Obligation to Respond: Voluntary.

6. Total Estimated Number of Respondents: Approximately 550 nominations.

7. Estimated Time per Respondent: 25 minutes.

8. Frequency: Once.

9. Total Estimated Annual Time Burden: 57.29 hours.

10. Total Estimated Annual Other Costs Burden: $0.

If additional information is required contact: Darwin Arceo, Department Clearance Officer, United States Department of Justice, Justice Management Division, Enterprise Portfolio Management, Two Constitution Square, 145 N Street NE, 4W-218, Washington, DC.

Dated: January 21, 2026.
Darwin Arceo,
Department Clearance Officer for PRA, U.S. Department of Justice.

[FR Doc. 2026-01322 Filed 1-22-26; 8:45 am]

BILLING CODE 4410-18-P